DEPARTMENT OF ENERGY

Federal Energy Regulatory Commission

[Docket No. EL10-53-000]

FPL Energy Maine Hydro LLC, Complainant v. Great Lakes Hydro America LLC Rumford Falls Hydro LLC, Respondents; Notice of Complaint

March 29, 2010.

Take notice that on March 26, 2010, pursuant to section 206 of the Federal Energy Regulatory Commission's (Commission) Rules and Practice and Procedure, 18 CFR 385.206 (2009) and sections 10(f) and 306 of the Federal Power Act, 16 U.S.C. 803 and 825(e), FPL Energy Maine Hydro LLC (Complainant) filed a formal complaint against Great Lakes Hydro America LLC and Rumford Falls Hydro LLC (Respondents) alleging that Respondents are violating Article 11 of Form L-3 (October, 1975) of their FERC hydro licenses by improperly obstructing Complainant's efforts to allocate and recover costs associated with a remediation project designed to bring the Upper and Middle Dams into compliance with the Commission's Part 12 safety regulations, 18 CFR part 12 (2009 (Renewal Project), in accordance with the Androscoggin Headwater Benefits Agreement approved by the Commission in 1992. Androscoggin Reservoir Company, 59 FERC 62,372 (1992).

The Complainant certifies that copies of the complaint were served on the Respondents, all parties to the Androscoggin Headwater Benefits Agreement, and the Maine Pubic Utilities Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 15, 2010.

Nathaniel J. Davis, Sr.,
Deputy Secretary.

[FR Doc. 2010-7819 Filed 4-6-10; 8:45 am]

BILLING CODE 6717-01-P